DEPARTMENT OF DEFENSE

Office of the Secretary

Uniform Formulary Beneficiary Advisory Panel; Notice of Federal Advisory Committee Meeting

AGENCY: Under Secretary of Defense for Personnel and Readiness, Department of Defense (DoD).

ACTION: Notice of federal advisory committee meeting.

SUMMARY: The DoD is publishing this notice to announce that the following Federal Advisory Committee meeting of the Uniform Formulary Beneficiary Advisory Panel (UFBAP) will take place.

DATES: Open to the public Wednesday, June 28, 2023, 10:00 a.m.-1:00 p.m. (Eastern Standard Time).

ADDRESSES: The meeting will be held telephonically or via conference call. The phone number for the remote access on June 28, 2023 is: CONUS: 1-800-369-2046; OCONUS: 1-203-827-7030; Participant Code: 8546285.

These numbers and the dial-in instructions will also be posted on the UFBAP website at: https://www.health.mil/Military-Health-Topics/Access-Cost-Quality-and-Safety/Pharmacy-Operations/BAP.

FOR FURTHER INFORMATION CONTACT: Designated Federal Official (DFO) Colonel Paul B. Carby, USA, 703-681-2890 (voice), dha.ncr.j-6.mbx.baprequests@health.mil (email). Mailing address is 7700 Arlington Boulevard, Suite 5101, Falls Church, VA 22042-5101. Website: https://www.health.mil/Military-Health-Topics/Access-Cost-Quality-and-Safety/Pharmacy-Operations/BAP. The most up-to-date changes to the meeting agenda can be found on the website.

SUPPLEMENTARY INFORMATION: This meeting is being held under the provisions of chapter 10 of the United States Code (U.S.C.) (commonly known as the Federal Advisory Committee Act or FACA), the Government in the Sunshine Act of 1976 (5 U.S.C. 552b, as amended), and 41 CFR 102-3.140.

Purpose of the Meeting: The Panel will review and comment on recommendations made to the Director, Defense Health Agency, by the Pharmacy and Therapeutics Committee, regarding the Uniform Formulary.

Agenda

1. 10:00 a.m.-10:10 a.m. Sign in for UFBAP members

2. 10:10 a.m.-10:40 a.m. Welcome and Opening Remarks

a. Welcome, Opening Remarks, and Introduction of UFBAP Members by DFO, UFBAP

b. Public Written Comments by DFO, UFBAP

c. Opening Remarks by UFBAP Co-Chair

d. Introductory Remarks by Chief, Formulary Management Branch

3. 10:40 a.m.-11:45 a.m. Scheduled Therapeutic Class Reviews

4. 1:45 a.m.-12:30 p.m. Newly Approved Drugs Review

5. 12:30 p.m.-12:45 p.m. Pertinent Utilization Management Issues

6. 12:45 p.m.-1:00 p.m. Closing Remarks

a. Closing Remarks by UFBAP Co-Chair

b. Closing Remarks by DFO, UFBAP

Meeting Accessibility: Pursuant to section 10(a)(1) of the FACA and 41 CFR 102-3.140 through 102-3.165, and subject to the availability of phone lines, this meeting is open to the public. Telephone lines are limited and available to the first 220 people dialing in. There will be 220 lines total: 200 domestic and 20 international, including leader lines.

Written Statements: Pursuant to 41 CFR 102-3.140, and 3.150 and section 10(a)(3) of FACA, interested persons or organizations may submit written statements to the UFBAP about its mission and/or the agenda to be addressed in this public meeting. Written statements should be submitted to the UFBAP's DFO. The DFO's contact information can be found in the FOR FURTHER INFORMATION CONTACT section of this notice. Written comments or statements must be received by the UFBAP's DFO at least five (5) calendar days prior to the meeting so they may be made available to the UFBAP for its consideration prior to the meeting. The DFO will review all submitted written statements and provide copies to UFBAP.

Dated: May 31, 2023.
Aaron T. Siegel,
Alternate OSD Federal Register Liaison Officer, Department of Defense.

[FR Doc. 2023-11928 Filed 6-5-23; 8:45 am]

BILLING CODE 5001-06-P